NATIONAL AERONAUTICS AND SPACE ADMINISTRATION

[Notice (02-022)]

NASA Advisory Council (NAC); Meeting

AGENCY: National Aeronautics and Space Administration.

ACTION: Notice of meeting.

SUMMARY: In accordance with the Federal Advisory Committee Act, Public Law 92-463, as amended, the National Aeronautics and Space Administration announces an open meeting of the NASA Advisory Council (NAC).

DATES: Tuesday, February 26, 2002, 8 a.m. to 5 p.m; and Wednesday, February 27, 2002, 8 a.m. to 12:30 p.m.

ADDRESSES: NASA Johnson Space Center, 2101 NASA Road 1, Building 1, Room 966, Houston, TX 77058.

FOR FURTHER INFORMATION CONTACT: Mr. Philip Cleary, Code IC, National Aeronautics and Space Administration, Washington, DC 20546-0001, 202/358-4461.

SUPPLEMENTARY INFORMATION: The meeting will be open to the public up to the seating capacity of the room. The agenda for the meeting is as follows:

—Receive a status of NASA's restructuring of the International Space Station program

—An evaluation of NASA's Strategic Resources Review

—A discussion on NASA's communication plan for the International Space Station

—Hear Committee reports

Due to increased security measures at the NASA Johnson Space Center (JSC), interested members of the media must contact the JSC newsroom no later than Monday, February 25, 2002, by 12 noon CST (281-483-5111) to make arrangements for transportation onsite and escort while at the Center. Any other interested persons must contact Ms. Abby Cassell no later than Monday, February 25, 2002, by 12 noon CST (281-483-2467) to make arrangements for badging, parking and escort while at the Center. Any requests for access to this meeting received after the cutoff time will not be accommodated due to limited staffing and security issues. Access to JSC will be limited to those who show proper photo identification and who have made prior arrangements to attend as stipulated herein.

It is imperative that the meeting be held on these dates to accommodate the scheduling priorities of the key participants.

Sylvia K. Kraemer,
Advisory Committee Management Officer, National Aeronautics and Space Administration.

[FR Doc. 02-3486 Filed 2-12-02; 8:45 am]

BILLING CODE 7510-01-P